DEPARTMENT OF THE INTERIOR

National Park Service

[NPS-WASO-NRNHL-15089; PPWOCRADI0, PCU00RP14.R50000]

National Register of Historic Places; Notification of Pending Nominations and Related Actions

Nominations for the following properties being considered for listing or related actions in the National Register were received by the National Park Service before February 15, 2014. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by March 27, 2014. Before including your address, phone number, email address, or other personal identifying information in your comment, you should be aware that your entire comment—including your personal identifying information—may be made publicly available at any time. While you can ask us in your comment to withhold your personal identifying information from public review, we cannot guarantee that we will be able to do so.

Dated: February 21, 2014.
J. Paul Loether,
Chief, National Register of Historic Places/National Historic Landmarks Program.

ALABAMA

Lee County

Pepperell Mill and Mill Village Historic District, Pepperell Pkwy., 28th St. N., 1st Ave. & 30th St. N., Opelika, 14000090

MISSOURI

Clay County

Elms, The, Historic District, (Excelsior Springs, Missouri MPS) Roughly 400 blk. Regent Ave., 500 blk. Elms Blvd., 500-600 blks. Kansas City Ave., Excelsior Springs, 14000091

NEW YORK

Kings County

Crown Heights North Historic District, Roughly portions of Pacific, Dean & Bergen Sts., Eastern Pkwy., Bedford, Nostrand, New York, Brooklyn & Kingston Aves., Brooklyn, 14000092

Steuben County

Myrtle, Henry C. House, 7663 Cty. Rd. 13, Bath, 14000093

Quick, Martin A., House, 123 W. Morris St., Bath, 14000094

PENNSYLVANIA

Montgomery County

Fisher, Dr. Norman & Doris, House, 197 E. Mill Rd., Hatboro, 14000095

Philadelphia County

Brownhill and Kramer Hosiery Mill, 406-426 Memphis St., 1421-1437 E. Columbia Ave., Philadelphia, 14000096

Juvenile and Domestic Branches of the Municipal Court, 1801 Vine St., Philadelphia, 14000097

TEXAS

Bell County

Killeen Downtown Historic District, Roughly bounded by Ave. A, Santa Fe Plaza, N. 4th & N. 8th Sts., Killeen, 14000098

Bexar County

Perez Rancho Site and Delores Crossing, (El Camino Real de los Tejas National Historic Trail MPS) Address Restricted, San Antonio, 14000099

Bowie County

Texarkana Junior College and Texas High School, W. 16th & Pine Sts., Texarkana, 14000102

Dallas County

511 Akard Building, 511 N. Akard, Dallas, 14000103

Nacogdoches County

D'Ortolan, Bernardo, Rancho Site, (El Camino Real de los Tejas National Historic Trail MPS) Address Restricted, Nacogdoches, 14000101

D'Ortolan, Raphael, Site, (El Camino Real de los Tejas National Historic Trail MPS) Address Restricted, Nacogdoches, 14000100

Rusk County

Monte Verdi Plantation, 11992 Cty. Rd. 4233 W., Cushing, 14000104

Tarrant County

Inspiration Point Shelter House, Roughly 250 yds. S. of 2400 blk. of Roberts Cut Off Rd., Fort Worth, 14000105

Uvalde County

First National Bank, 100 S. East St., Uvalde, 14000106

WEST VIRGINIA

Wood County

Bethel Presbyterian Church, 7132 Ols St. Marys Pike, Waverly, 14000107

[FR Doc. 2014-05305 Filed 3-11-14; 8:45 am]

BILLING CODE 4312-51-P